NUCLEAR REGULATORY COMMISSION

[NRC-2011-0245]

Access Authorization Program for Nuclear Power Plants

AGENCY: Nuclear Regulatory Commission.

ACTION: Regulatory guide; issuance.

SUMMARY: The U.S. Nuclear Regulatory Commission (NRC) is issuing a revision to Regulatory Guide 5.66, “Access Authorization Program for Nuclear Power Plants.” This guide describes a method that NRC staff considers acceptable to implement the requirements related to an access authorization program.

ADDRESSES: You can access publicly available documents related to this regulatory guide using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov. The regulatory guide is available electronically under ADAMS Accession Number ML112060028. The regulatory analysis may be found in ADAMS under Accession Number ML112060032.

Regulatory guides are not copyrighted, and NRC approval is not required to reproduce them.

FOR FURTHER INFORMATION CONTACT: Richard Jervey, Regulatory Guide Development Branch, Division of Engineering, Office of Nuclear Regulatory Research, U.S. Nuclear Regulatory Commission, Washington, DC 20555-0001, telephone: 301-215-7404; e-mail: Richard.Jervey@nrc.gov.

SUPPLEMENTARY INFORMATION:

I. Introduction

The NRC is issuing a revision to an existing guide in the NRC's “Regulatory Guide” series. This series was developed to describe and make available to the public information such as methods that are acceptable to the NRC staff for implementing specific parts of the agency's regulations, techniques that the staff uses in evaluating specific problems or postulated accidents, and data that the staff needs in its review of applications for permits and licenses.

The NRC typically seeks public comment on a draft version of a regulatory guide by announcing its availability for comment in the Federal Register. However, the NRC may directly issue a final regulatory guide without a draft version or public comment period if the changes to the regulatory guide are non-substantive, including changes to the Regulatory Position section of the regulatory guide. Issuance of regulatory guides using this direct final process reduces processing time and review costs. A regulatory guide revised using this process is called an Administratively Changed Guide (ACG).

Revision 2 of RG 5.66 is being issued directly as a final regulatory guide because the changes between Revision 2 and Revision 1 are non-substantive. Regulatory Guide (RG) 5.66 was written to provide guidance to licensees for the access authorization programs required by Title 10 of the Code of Federal Regulations (10 CFR), section 73.56, “Personnel Access Authorization Requirements for Nuclear Power Plants,” and 10 CFR part 26, “Fitness for Duty Programs.” The RG was previously updated to include enhanced requirements that had been provided in orders to nuclear power plant license holders following the terrorist attacks of September 11, 2001. The access authorization program required by the rule consists of a background investigation with periodic reinvestigations, a psychological assessment with periodic reassessments for enumerated critical personnel, a behavior observation program that includes self-reporting requirements, and determinations of trustworthiness and reliability for contractors who support licensees in meeting these rule requirements. In 10 CFR 73.56, the NRC requires that each applicant for an operating license under the provisions of 10 CFR Part 50, “Domestic Licensing of Production and Utilization Facilities,” and each holder of a combined license under the provisions of 10 CFR part 52, “Licenses, Certifications, and Approvals for Nuclear Power Plants,” establish, maintain, and implement, in part, the requirements of 10 CFR 73.56 before fuel is allowed on site (in a protected area). These requirements have been established to provide high assurance that individuals granted unescorted access and those certified for unescorted access authorization are trustworthy and reliable and do not constitute an unreasonable risk to public health and safety or the common defense and security, including the potential to commit radiological sabotage.

Access authorization programs are similar between nuclear power plants as there is a large transient workforce requiring access between different power plant sites. In a joint effort between the NRC and the Nuclear Energy Institute (NEI), a program was developed to provide consistency between plant sites. NEI 03-01, “Nuclear Power Plant Access Authorization Program,” Revision 3, was issued in May 2009 as a standard model for license holders. Revision 1 to RG 5.66 endorsed NEI 03-01 as an acceptable approach to meet the requirements of 10 CFR 73.56 and 10 CFR Part 26. However, NEI 03-01, as well as an attachment to Revision 1 of RG 5.66, contain security-related information in accordance with 10 CFR 2.390(d)(1), and therefore are not publicly available. Revision 2 of RG 5.66 is being issued to provide information to the public regarding the NRC's guidance for meeting the requirements of 10 CFR 73.56 and 10 CFR part 26.

II. Further Information

Although Revision 2 of RG 5.66 was not issued for public comment, comments are welcome for all regulatory guides at any time. The input from the public and stakeholders will be considered in planning resources for the further update and enhancement of the regulatory guide series. You may submit comments by contacting Richard Jervey, Regulatory Guide Development Branch, Division of Engineering, Office of Nuclear Regulatory Research, U.S. Nuclear Regulatory Commission, Washington, DC 20555-0001, telephone: 301-215-7404; e-mail: RegulatoryGuideDevelopmentBranch.Resource@nrc.gov.

Dated at Rockville, Maryland, this 6th day of October, 2011.
For the Nuclear Regulatory Commission.
Thomas H. Boyce,
Chief, Regulatory Guide Development Branch, Division of Engineering, Office of Nuclear Regulatory Research.

[FR Doc. 2011-27462 Filed 10-24-11; 8:45 am]

BILLING CODE 7590-01-P